GENERAL SERVICES ADMINISTRATION

[OMB Control No. 3090-0235; Docket No.2011-0001; Sequence 10]

General Services Administration Acquisition Regulation; Information Collection; Price Reductions Clause

AGENCY: Office of Acquisition Policy, GSA.

ACTION: Notice of request for comments regarding an extension to an existing OMB clearance.

SUMMARY: Under the provisions of the Paperwork Reduction Act, the Regulatory Secretariat will be submitting to the Office of Management and Budget (OMB) a request to review and approve an extension of a previously approved information collection requirement regarding the GSAR Price Reductions Clause.

Public comments are particularly invited on: Whether this collection of information is necessary and whether it will have practical utility; whether our estimate of the public burden of this collection of information is accurate, and based on valid assumptions and methodology; ways to enhance the quality, utility, and clarity of the information to be collected.

DATES: Submit comments on or before: February 27, 2012.

ADDRESSES: Submit comments identified by Information Collection 3090-0235, Price Reduction Clause, by any of the following methods:

• Regulations.gov: http://www.regulations.gov. Submit comments via the Federal eRulemaking portal by inputting “Information Collection 3090-0235, Price Reduction Clause”, under the heading “Enter Keyword or ID” and selecting “Search”. Select the link “Submit a Comment” that corresponds with “Information Collection 3090-0235, Price Reduction Clause”. Follow the instructions provided at the “Submit a Comment” screen. Please include your name, company name (if any), and “Information Collection 3090-0235, Price Reduction Clause” on your attached document.

• Fax: (202) 501-4067.

• Mail: General Services Administration, Regulatory Secretariat (MVCB), 1275 First Street NE., Washington, DC 20417. ATTN: Hada Flowers/IC 3090-0235, Price Reduction Clause.

Instructions: Please submit comments only and cite Information Collection 3090-0235, Price Reduction Clause, in all correspondence related to this collection. All comments received will be posted without change to http://www.regulations.gov, including any personal and/or business confidential information provided.

FOR FURTHER INFORMATION CONTACT: Ms. Dana Munson, General Services Acquisition Policy Division, GSA, (202) 357-9652 or email Dana.Munson@gsa.gov.

SUPPLEMENTARY INFORMATION:

A. Purpose

The clause at GSAR 552.238-75, Price Reductions, used in multiple award schedule contracts ensures that the Government maintains its relationship with the contractor's customer or category of customers, upon which the contract is predicated. The reason for the burden decrease as it exists now is based on current data updating the number of MAS Schedule contractors.

B. Annual Reporting Burden

Number of Respondents: 4,500.

Total Annual Responses: 4,500.

Average hours per response: 2 hours.

Total Burden Hours: 9,000.

Obtaining Copies of Proposals: Requesters may obtain a copy of the information collection documents from the General Services Administration, Regulatory Secretariat Division (MVCB), 1275 First Street NE., Washington, DC 20417, telephone (202) 501-4755. Please cite OMB Control No. 3090-0235, Price Reductions Clause, in all correspondence.

Dated: December 22, 2011.
Joseph A. Neurauter,
Director, Office of Acquisition Policy, Senior Procurement Executive.

[FR Doc. 2011-33430 Filed 12-28-11; 8:45 am]

BILLING CODE 6820-61-P